ENVIRONMENTAL PROTECTION AGENCY

[EPA-HQ-OPPT-2015-0047; FRL-9922-69]

Implementation of a New Label for the Design for the Environment (DfE) Safer Product Labeling Program and Supporting Modifications to the DfE Standard for Safer Products; Notice of Availability

AGENCY: Environmental Protection Agency (EPA).

ACTION: Notice of availability.

SUMMARY: EPA is making available a document that announces and implements several important changes to EPA's Safer Product Labeling Program (SPLP), as well as a number of conforming changes to the program's Standard for Safer Products, including: New label designs and a new name for the EPA SPLP; an associated fragrance-free label; and related changes to the standard that qualifies products for the label.

DATES: Comments must be received on or before May 5, 2015.

ADDRESSES: Submit your comments, identified by docket identification (ID) number EPA-HQ-OPPT-2015-0047, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: David DiFiore, Chemistry, Economics and Sustainable Strategies Division, Office of Pollution Prevention and Toxics, Environmental Protection Agency, 1200 Pennsylvania Ave. NW., Washington, DC 20460-0001; telephone number: 202-564-8796; email address: difiore.david@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be affected by this action if you participate in or applying for certification under the DfE Safer Product Labeling Program and use or hope to use the program's logo on your products. Also potentially affected are consumers, institutional purchasers, retailers, and distributors of DfE-labeled products who use the logo to identify products that have met the Agency's safer-product criteria. The following list of North American Industrial Classification System (NAICS) codes is not intended to be exhaustive, but rather provides a guide to help readers determine whether this document applies to them. Potentially affected entities may include:

• Manufacturing (NAICS codes 31-33).

• Construction (NAICS code 23).

• Wholesale trade (NAICS code 42).

• Retail trade (NAICS codes 44-45).

• Professional, scientific and technical services (NAICS code 54).

• Accommodations and food Services (NAICS code 72).

• Other services, except public administration (NAICS code 81).

• Public administration (NAICS code 92).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

EPA is issuing a document, “Changes to the Standard to Implement the Safer Choice Label” (https://wcms.epa.gov/sites/production/files/2015-02/documents/safer-choice-standard-changes.pdf), that implements a new label and name for the DfE Safer Product Labeling Program, namely, the EPA “Safer Choice” Program. The new label is available for immediate use to program partners. The Agency is also making new-label-related changes to the program's standard that qualifies products for participation in the program. Finally, EPA is issuing a new, optional fragrance-free certification. The program has redesigned its label for several reasons: To better communicate the program's human health and environmental protection goals, increase consumer and institutional/industrial purchaser understanding and recognition of products bearing the label, and encourage innovation and the development of safer chemicals and chemical-based products. While effective immediately, the Agency is requesting comment on the changes that are described in the referenced document (EPA-HQ-OPPT-2015-0047), including the fragrance-free certification, and may make further programmatic changes based on the comments received. Please note that the Agency has received extensive public input on the logo designs and is not requesting further comment on them.

Authority: 15 U.S.C. 2601 et seq.

Dated: February 11, 2015.
Wendy C. Hamnett,
Director, Office of Pollution Prevention and Toxics.

[FR Doc. 2015-05073 Filed 3-5-15; 8:45 am]

BILLING CODE 6560-50-P